DEPARTMENT OF TRANSPORTATION

Federal Transit Administration

Environmental Impact Statement on Transportation Improvements Within the Downtown-Airport Corridor in Memphis, Tennessee

AGENCY: Federal Transit Administration (FTA), DOT.

ACTION: Notice of Intent to prepare an environmental impact statement.

SUMMARY: The Federal Transit Administration (FTA) is issuing this notice to advise interested agencies and the public that, in accordance with the National Environmental Policy Act, an Environmental Impact Statement (EIS) is being prepared for the proposed transportation improvements in the Downtown-Airport Corridor and adjacent areas located in Memphis, Tennessee.

DATES: Comment Due Date: Written comments on the scope of the alternatives and impacts to be considered should be sent to the address listed below in ADDRESSES by September 14, 2001.

Interagency Scoping Meeting

Thursday, August 23, 2001, from 1:30 p.m. to 3:30 p.m. at Central Station, 545 South Main Street, Memphis, TN 38103.

Public Scoping Meetings

Thursday, August 23, 2001, from 6 p.m. to 8 p.m., at the New Salem Baptist Church, 2231 South Parkway East, Memphis, TN 38114.

ADDRESSES: Written comments on the scope of the analysis and the impacts to be considered should be sent by September 14, 2001 to: Mr. Tom Fox, Director of Planning and Capital Projects, Memphis Area Transit Authority, 1370 Levee Road, Memphis, TN 38108-1011. Phone: (901) 722-7100. Fax (901) 722-7123.

FOR FURTHER INFORMATION CONTACT: Mr. Bill Wheeler, Federal Transit Administration, 61 Forsyth Street, SW, Suite 17T50, Atlanta, GA 30303. Phone: (404) 562-3500.

SUPPLEMENTARY INFORMATION: The Federal Transit Administration (FTA), the federal lead agency, in cooperation with the Memphis Area Transit Authority (MATA), the local lead agency, is preparing an Environmental Impact Statement (EIS) for proposed transportation improvements in the Downtown-Airport Corridor and adjacent areas.

The transportation improvements are being defined through the Alternatives Analysis. Issues and alternatives will be identified through a scoping process in accordance with the regulations implementing the National Environmental Policy Act (NEPA) of 1969, as amended. The scoping process will include the identification and evaluation of alternative design concepts, and will provide the basis for the selection of a preferred design concept for inclusion in the regional transportation plan. Subsequently, alternative alignments and designs that are consistent with the selected concept and scope will be addressed in an EIS.

I. Scoping

MATA and FTA invite interested individuals, organizations, and federal, state, and local agencies to participate in establishing the purpose, alternatives, schedule, and analysis approach, as well as an active public involvement program. The public is invited to comment on the alternatives to be addressed; the modes and technologies to be evaluated; the alignments and station locations to be considered; the environmental, social, and economic impacts to be analyzed; and the evaluation approach to be used to select a locally preferred alternative. Scoping comments should focus on the issues and alternatives for analysis, and not on preference for particular alternatives. (Individual preference for particular alternatives should be communicated during the comment period for the Draft EIS that will be prepared subsequent to the Alternatives Analysis study. See FTA PROCEDURES below.) Comments may be made at the meetings or in writing no later than September 14, 2001 (see DATES and ADDRESSES above).

II. Description of Study Area

MATA completed a Regional Transit Plan in 1997, which included major fixed guideway investments in three corridors by 2020. The adopted plan followed MATA's opening of the downtown rail system, building upon the Main Street and Riverfront trolley lines. The final element of the downtown rail program, the Medical Center rail extension, is now in final design and construction will start in late 2001.

MATA has been investigating how best to advance the regional high capacity transit components of the 2020 plan. The most recently completed study culminated in the selection of the top priority corridor for the next phase of high capacity transit expansion. During the Corridor Selection Study, the community involvement process identified key needs of work force transportation and redevelopment of underutilized areas (transit oriented development). The three candidate corridors were evaluated on the basis of criteria such as access and mobility, costs, opportunity for transit oriented development, use of shared rights-of-way, traffic congestion, and impact on sensitive areas. In the deliberation of the results of the evaluation, the MATA Board recognized that the first phase of regional high capacity transit must be effective in attracting riders and contributing to the economic vitality of the region. The deliberations also recognized that the Airport area is the largest point of economic generation in the region and should be served by the first phase of the region system. At the conclusion of the Corridor Selection Study, the Downtown-Airport Corridor (a portion of the Southeast Corridor) was selected as the top priority to move forward for detailed study and environmental analysis.

The Downtown-Airport Corridor is located entirely within the City of Memphis. The corridor is bounded on the west by the Mississippi River, Crump Boulevard, Interstate 240 and Interstate 55; on the north by North Parkway; on the east by East Parkway, Hollywood Street, Semmes Avenue, Lamar Avenue and Getwell Road; and on the south by Raines Road. The corridor contains a diverse mix of major institutions including the Medical Center, the Fairgrounds, the Airport, and the Federal Express package handling facility. The Airport and the Federal Express hub are among the largest individual employers in the region. Medium density residential development also is evident throughout the corridor. Much of the corridor is characterized by older development, with new infill development occurring in selected areas.

The Alternatives Analysis will examine alignments, technologies, station locations, cost, funding, ridership, economic development, land use, engineering feasibility, and environmental concerns. During this Alternatives Analysis process, MATA also will evaluate the best options for connecting this initial segment with rest of the corridors.

III. Alternatives

The scoping meetings, other community meetings and written comments will be a major source of alternatives for consideration in the Alternatives Analysis. Transportation alternatives proposed for consideration in the Downtown-Airport Corridor will include:

1. No Action Alternative—Existing and planned transit service and programmed new transportation facilities to the year 2023 with no new change to transportation services or facilities in the area beyond already committed projects.

2. Light Rail Alternative—Extension of the downtown rail circulation system, either from the renovated Central Station or the Medical Center Extension eastward and southward to the vicinity of the Airport via several alternative alignments, including Madison Avenue, Lamar Avenue, I-240; railroad rights-of-way and others.

3. Other Technology Alternatives such as monorail and bus rapid transit.

Based on public and agency input received during scoping, variations of the above alternatives and other transportation-related improvement options, both transit and non-transit, will be considered for the Downtown-Airport Corridor.

IV. Probable Effects/Potential Impacts for Analysis

The FTA and MATA will consider probable effects and potentially significant impacts to social, economic and environmental factors associated with the alternatives under evaluation in the EIS. Potential environmental issues to be addressed will include: land use, historic and archaeological resources, traffic and parking, noise and vibration, environmental justice, regulatory floodway/floodplain encroachments, coordination with transportation and economic development projects, and construction impacts. Other issues to be addressed in the EIS include: natural areas, ecosystems, rare and endangered species, water resources, air/surface water and groundwater quality, energy, potentially contaminated sites, displacements and relocations, and parklands. The potential impacts will be evaluated for both the construction period and the long-term operations period of each alternative considered. In addition, the cumulative effects of the proposed project alternatives will be identified. Measures to avoid or mitigate any significant adverse impacts will be developed.

Evaluation criteria will include consideration of the local goals and objectives established for the study, measures of effectiveness identified during scoping, and criteria established by FTA for “New Start” transit projects.

V. FTA Procedures

In accordance the regulations and guidance established by the Council on Environmental Quality (CEQ), as well as the Code of Federal Regulations, Title 23, Part 771 (23 CFR 771) of the FHWA/FTA environmental regulations and policies, the EIS will include an analysis of the social, economic and environmental impacts of each of the alternatives selected for evaluation. The EIS will also comply with the requirements of the 1990 Clean Air Act Amendments (CAAA) and with Executive Order 12898 regarding Environmental Justice. After its publication, the Draft Environmental Impact Statement (DEIS) will be available for public and agency review and comment. Public hearings will be held on the DEIS. The DEIS will also constitute the Alternative Analysis required by the New Starts regulations.

The Final EIS will consider comments received during the DEIS public review and will identify the preferred alternative. Opportunity for additional public comment will be provided throughout all phases of project development.

Issued on: July 31, 2001.
Jerry Franklin,
Regional Administrator.

[FR Doc. 01-19467 Filed 8-2-01; 8:45 am]

BILLING CODE 4910-57-P